DEPARTMENT OF ENERGY

Federal Energy Regulatory Commission

Combined Notice of Filings

Take notice that the Commission has received the following Natural Gas Pipeline Rate and Refund Report filings:

Docket Numbers: RP20-1189-000.

Applicants: Portland Natural Gas Transmission System.

Description: Compliance filing PXP Phase III Compliance Filing to be effective 11/1/2020.

Filed Date: 9/15/20.

Accession Number: 20200915-5010.

Comments Due: 5 p.m. ET 9/28/20.

Docket Numbers: RP20-1190-000.

Applicants: Empire Pipeline, Inc.

Description: § 4(d) Rate Filing: New Map Link 2020 (Empire) to be effective 10/1/2020.

Filed Date: 9/15/20.

Accession Number: 20200915-5032.

Comments Due: 5 p.m. ET 9/28/20.

Docket Numbers: RP20-1191-000.

Applicants: National Fuel Gas Supply Corporation.

Description: § 4(d) Rate Filing: New Map Links 2020 (Supply) to be effective 10/1/2020.

Filed Date: 9/15/20.

Accession Number: 20200915-5034.

Comments Due: 5 p.m. ET 9/28/20.

Docket Numbers: RP20-1192-000.

Applicants: Midship Pipeline Company, LLC.

Description: § 4(d) Rate Filing: Request for Service/Execution of Service Agmts to be effective 10/15/2020.

Filed Date: 9/15/20.

Accession Number: 20200915-5066.

Comments Due: 5 p.m. ET 9/28/20.

Docket Numbers: RP20-1193-000.

Applicants: Paiute Pipeline Company.

Description: § 4(d) Rate Filing: Non-Conforming TSA Removals and Restatements of TSA Nos. F29, F32, F34, F51 to be effective 9/15/2020.

Filed Date: 9/15/20.

Accession Number: 20200915-5076.

Comments Due: 5 p.m. ET 9/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2020.
Nathaniel J. Davis, Sr.,
Deputy Secretary.

[FR Doc. 2020-20912 Filed 9-21-20; 8:45 am]

BILLING CODE 6717-01-P